DEPARTMENT OF HOUSING AND URBAN DEVELOPMENT

[Docket No. FR-5907-N-25]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Jennifer Stomber, 2703 Martin Luther King Jr. Avenue SE., Stop 7741, Washington, DC 20593-7714; (202) 475-5609; GSA: Mr. Flavio Peres, General Services Administration, Office of Real Property Utilization and Disposal, 1800 F Street NW., Room 7040, Washington, DC 20405, (202) 501-0084; Navy: Mr. Steve Matteo, Department of the Navy, Asset Management Division, Naval Facilities Engineering Command, Washington Navy Yard, 1330 Patterson Ave. SW., Suite 1000, Washington, DC 20374; (202) 685-9426 (These are not toll-free numbers).

Dated: June 9, 2016.
Brian P. Fitzmaurice,
Director, Division of Community Assistance, Office of Special Needs Assistance Programs.

TITLE V, FEDERAL SURPLUS PROPERTY PROGRAM FEDERAL REGISTER REPORT FOR 06/17/2016

Suitable/Available Properties

Building

Alabama

Gadsden Federal Building and Courthouse

600 Broad Street

Gadsden AL 35901

Landholding Agency: GSA

Property Number: 54201620018

Status: Excess

GSA Number: 4-G-AL-0805-AA

Comments: 105+ yrs. old; 17,488 sq. ft.; office & courthouse; listed on the national historic register; access must be coordinated, contact GSA for more information.

Historic Hannah Houses

157 and 159 N Conception Street

Mobile AL 36603

Landholding Agency: GSA

Property Number: 54201620020

Status: Excess

GSA Number: 4-G-AL-0817AAA

Comments: 163+ yrs. old; 8,868 sq. ft.; office; residential; vacant 120+ mos.; rehabilitation work needed; contact GSA for more information.

Maryland

Chapel Naval Station (Facility No. 127NS)

55 Eucalyptus Road

Annapolis MD 21402

Landholding Agency: Navy

Property Number: 77201620019

Status: Underutilized

Comments: off-site removal only; 68+ yrs. old; 2,062 sq. ft.; storage; 60+ mos. vacant; repairs needed; no future agency need; contact Navy for more information.

Massachusetts

Shed

1 Little Harbor Road

Falmouth MA 02543

Landholding Agency: Coast Guard

Property Number: 88201620003

Status: Excess

Comments: off-site removal only; 20+ yrs. old; 240 sq. ft. each; shed; requires maintenance; contact Coast Guard for more information.

North Carolina

Bryson City Federal Building and Courthouse

50 Main Street

Bryson City NC 28713

Landholding Agency: GSA

Property Number: 54201620019

Status: Excess

GSA Number: 4-G-NC-0838-AA

Comments: 54+ yrs. old; 34,156 sq. ft.; office & courthouse; access must be coordinated; lease expires less than 6 mos.; sits on 1.3 acres of land; contact GSA for more information.

Virginia

Bldg. 27267

Bldg. 27267; MCB-4

Martine Corps Base

Quantico VA 22134

Landholding Agency: Navy

Property Number: 77201620020

Status: Unutilized

Comments: off-site removal only; 13+ yrs. old; 713 sq. ft.; storage; no future agency need; contact Navy for more information.

Washington

Wenatchee Federal Building

301 Yakima Street

Wenatchee WA 98001

Landholding Agency: GSA

Property Number: 54201620012

Status: Excess

GSA Number: 9-G-WA-1286

Directions: The property is leased to governmental tenants and will continue to be leased 24 months from the date of sale with the option, to renew for a 5-year term.

Comments: 104,414 sf 4 story office building with full basement and mechanical penthouse constructed in 1973 on a 2.7-acre lot with 129 parking spaces; contact GSA for more information.

N Border Housing at the Laurie

LOPE

27107 Highway 395 North

Laurier WA 99146

Landholding Agency: GSA

Property Number: 54201620022

Status: Excess

GSA Number: 9-G-WA-1297-AA

Comments: off-site removal only; 80+ yrs. old; 1,970 sq. ft.; due to size/+yrs. relocation extremely difficult; storage; 144+ mos. vacant; contacts GSA for more information.

South Border Housing at the Laurier LOPE

27107 Highway 395 North

Laurier WA 99146

Landholding Agency: GSA

Property Number: 54201620023

Status: Excess

GSA Number: 9-G-WA-1297-AB

Comments: off-site removal only; 80+ yrs. old; 2,200 sq. ft.; due to size/+yrs. relocation extremely difficult storage; 144+ mos. vacant; contact GSA for more information.

Unsuitable Properties

Building

Maryland

Mini Mart/Package Store

(Facility #178NS)180 Kinkaid Road

Annapolis MD 21402

Landholding Agency: Navy

Property Number: 77201620018

Status: Underutilized

Comments: documented deficiencies: documentation provided represents a clear threat to personal physical safety; structural damages; hit by a vehicle 02/11/11.

Reasons: Extensive deterioration

Massachusetts

3 Buildings

1 Little Harbor Rd.

Falmouth MA 02543

Landholding Agency: Coast Guard

Property Number: 88201620002

Status: Excess

Directions: Aids to Navigation Bldg.; Engineering Bldg., Supply Bldg.

Comments: public access denied and no alternative method to gain access without compromising national security.

Reasons: Secured Area

[FR Doc. 2016-14058 Filed 6-16-16; 8:45 am]

BILLING CODE 4210-67-P